FEDERAL COMMUNICATIONS COMMISSION

Public Information Collection Approved by Office of Management and Budget

June 13, 2006.

SUMMARY: The Federal Communications Commission (FCC) has received Office of Management and Budget (OMB) approval for the following public information collections pursuant to the Paperwork Reduction Act of 1995, Public Law 104-13. An agency may not conduct or sponsor and a person is not required to respond to a collection of information unless it displays a currently valid control number.

FOR FURTHER INFORMATION CONTACT: Ronnie Banks, Federal Communications Commission, 445 12th Street, SW., Washington, DC 20554, (202) 418-1359 or via the Internet at plaurenz@fcc.gov.

SUPPLEMENTARY INFORMATION: OMB Control No.: 3060-0600.

OMB Approval Date: 6/02/2006.

Expiration Date: 11/30/2006.

Title: Application to Partricipate in an FCC Auction.

Form No.: FCC-175.

Estimated Annual Burden: 560 responses; 765 total annual burden hours; 1.5 hours average per respondent.

Needs and Uses: The collection of information needed to implement the Commission's modified designated entity eligibility rules is essential to the Commission's mission. This information collection enables the Commission to ensure that only legitimate small businesses reap the benefits of the Commission's designated entity program. The information collected will be used by the Commission to determine if the applicant is legally, technically, and financially qualified to participate in an FCC auction. In addition, if the applicant applies for status as a particular type of auction participant pursuant to the Commission's rules, the Commission will use the information to determine if the applicant is eligible for the status requested. The Commission's auction rules and requirements are designed to ensure that the competitive bidding process is limited to serious qualified applicants; to deter possible abuse of the bidding and licensing process; and to enhance the use of competitive bidding to assign Commission licenses in furtherance of the public interest.

Federal Communications Commission.
Marlene H. Dortch,
Secretary.

[FR Doc. E6-9547 Filed 6-15-06; 8:45 am]

BILLING CODE 6712-01-P